DEPARTMENT OF HEALTH AND HUMAN SERVICES

Centers for Disease Control and Prevention

[60 Day-10-0765]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, Ph.D., CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Fellowship Management System (OMB No. 0920-0765 exp. 2/28/2011)—Revision—Scientific Education and Professional Development Program Office (SEPDPO), Office of Surveillance, Epidemiology and Laboratory Services (OSELS), Centers for Disease Control and Prevention (CDC).

Background and Brief Description

SEPDPO requests an additional three years to continue CDC's use of the online Fellowship Management System (FMS), and a revision to include two additional CDC fellowship applications and ten additional CDC fellowship directories. FMS allows applicants to apply to fellowships online and tracks fellowship applicants and alumni in one integrated database.

The mission of the SEPDPO is to prepare an applied public health workforce through training and service. Professionals in public health, epidemiology, medicine, economics, information science, veterinary medicine, nursing, public policy, and other related professions seek opportunities to broaden their knowledge and skills to improve the science and practice of public health. Each year, CDC's professional training programs accept applications from potential candidates for review and selection.

FMS provides an efficient and effective way for processing application data, selecting qualified candidates, maintaining a current alumni database, documenting the impact of the fellowships on alumni's careers, and generating reports. FMS reduces duplicate applicant records as well as agency resources to administer and process paper records. The application process includes the following: Submission of responses to the questions in the online application; submission of academic transcripts and letters of recommendation; a review by selected programmatic staff and panel member experts; selection of qualified candidates for interview; interview of candidates; and selection of trainees for the fellowship programs.

The online application questions ask for academic history, professional experience, names of references, and description of professional goals. The application questions and data collected are necessary to the application process to determine programmatic eligibility and to ensure that the most highly qualified candidates are chosen for the training programs. The alumni directory will allow CDC to maintain a current, centralized electronic database. Questions such as updates to e-mail addresses and other contact information, professional responsibilities, medical certifications, qualifications, and scientific skills are asked of alumni. This information is collected in the event it becomes necessary to contact alumni possessing mission-critical skills to meet a national public health emergency or an urgent public health need. Alumni data will also be used by CDC to document the impact of the fellowships on the career paths of participants, and thus, on the science and practice of public health, and by the alumni for maintaining their professional networks for finding jobs, staffing jobs, collaborating, and interacting with their fellow alumni.

Alumni will have two options for the level of information they wish to be visible to other alumni of their fellowship. They will have the option of displaying only their name, fellowship year, and professional information or all of their information. The default is to display only their name, fellowship year, and professional information. This information is already in the public domain.

The annual burden table has been updated to reflect an increase in the number of fellowships participating in FMS. There is no cost to the respondents other than their time.

Estimated Annualized Burden Hours
Type of respondents | Number of respondents | Number of responses per respondent | Average burden response (in hours) | Total burden (in hours)
Fellowship applicants | 1122 | 1 | 40/60 | 748
Fellowship alumni | 454 | 1 | 15/60 | 114
Total | 1576 |  |  | 862

Dated: September 23, 2010.
Maryam I. Daneshvar,
Reports Clearance Officer, Centers for Disease Control and Prevention.

[FR Doc. 2010-24479 Filed 9-29-10; 8:45 am]

BILLING CODE 4163-18-P